DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of January, 2002.

In order for an affirmative determination to be made and a certification of eligibility to apply for worker adjustment assistance to be issued, each of the group eligibility requirements of section 222 of the Act must be met.

(1) that a significant number or proportion of the workers in the workers' firm, or an appropriate subdivision thereof, have become totally or partially separated,

(2) that sales or production, or both, of the firm or subdivision have decreased absolutely, and

(3) that increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-39,873; Iomega Corp., Ogden, UT

TA-W-40,315; BPB America, Meridian, MS

TA-W-40,546; Midland Steel Products Co., Janesville, WI

TA-W-40,332; Creative Leather and Vinyl, Brookfield, WI

In the following cases, the investigation revealed that the criteria for eligibility have not been met for the reasons specified.

Increased imports did not contribute importantly to worker separations at the firm.

TA-W-39,465; Baltic Dyeing and Finishing, Passaic, NJ

TA-W-40,590; Alfa Laval, Inc., Formerly Known as Tri-Clover, Kenosha, WI

TA-W-39,333; Republic Paperboard Co LLC, Denver Mill, Commerce City, CO

TA-W-39,960; B-Way Corp., Elizabeth, NJ

TA-W-40,328; Drexel Heritage Furnishings, Inc., Machine Shop, Morganton, NC

The workers firm does not produce an article as required for certification under section 222 of the Trade Act of 1974.

TA-W-40,235; Ericsson, Research Triangle Park, NC

The investigation revealed that criteria (2) has not been met. Sales or production did not decline during the relevant period as required for certification.

TA-W-40,381; Four Seasons Fashion Manufacturing, New York, NY

TA-W-39,381; Electrolux Home Products, Nashville, AR

TA-W-39,673; Magnolia International Corp., Harlingen, TX

Affirmative Determinations for Worker Adjustment Assistance

The following certifications have been issued; the date following the company name and location of each determination references the impact date for all workers of such determination.

TA-W-39,343; Covenant Mill, Inc., Cherryville, NC: May 14, 2000.

TA-W-39,546; Revere Copper Products, Inc., Rome, New York: June 15, 2000.

TA-W-39,786; Alltrista Zinc Products, LP, Greenville, TN: June 26, 2000.

TA-W-40,175; Bethlehem Steel Corp., Burns Harbor Div., Chesterton, IN: October 9, 2000.

TA-W-40,427; National Ring Traveler Co., d/b/a/ Anchor Clover Chain Co., Pawtucket, RI: November 21, 2000.

TA-W-40,481; Artex International, Inc., Highland, IL: October 20, 2000.

TA-W-40,487; Scientific Atlanta, Inc., Atlanta Manufacturing Div., Norcross, GA: October 22, 2000.

TA-W-40,494; Accuride International, Inc., South Bend, IN: December 17, 2000.

TA-W-40,523; Parallax Power Components LLC, Goodland, IN: December 17, 2000.

TA-W-40,553 & A,B,C,; Aalfs Manufacturing, Glenwood, AR, Mena, AR, Arkadelphia, AR, Malvern, AR: November 14, 2000.

TA-W-40,553D; Aalfs Manufacturing, Sioux City, IA: October 9, 2001.

TA-W-39,024; Premier Circuit Assembly, Springhope, NC: March 31, 2000.

TA-W-39,744; American Steel Foundry, Alliance, OH: June 25, 2000.

TA-W-39,877; Sweetheart Cup Co., Springfield, MO: August 9, 2000.

TA-W-38,951; Findley Industries, Inc., Botkins Div., Botkins, OH: March 20, 2000.

TA-W-39,894; Del-Met Corp., Portland, TN: August 1, 2000.

TA-W-40,041 & A; Magee Apparel Co., Magee, MS and Hawley, PA: August 23, 2000.

TA-W-40,072; Converter Concepts, Memphis, MO: September 11, 2000.

TA-W-40,242; Complex Tooling and Molding, Inc., Boulder, CO: October 9, 2000.

TA-W-40,292; Exolon-ESK Co., Tonawanda, NY: April 13, 2001.

TA-W-40,367; B/E Aerospace, Inc., Litchfield, CT: November 5, 2000.

TA-W-40,373; Siemens Energy and Automation, Inc., Osceola, IA: November 9, 2000.

TA-W-39,452; Athens Furniture Industries, Inc., Athens, TN: June 1, 2000.

TA-W-40,471; FCI USA, Inc., Cypress, CA: October 23, 2000.

TA-W-40,490; Schmalbach-Lubeca Plastic Containers USA, Inc., Erie, PA: November 5, 2000.

TA-W-40,512; Robert Mitchell Co., Inc., Douglas Brothers Div., Portland, ME: December 14, 2000.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of January, 2002.

In order for an affirmative determination to be made and a certification of eligibility to apply for NAFTA-TAA the following group eligibility requirements of section 250 of the Trade Act must be met:

(1) that a significant number or proportion of the workers in the workers' firm, or an appropriate subdivision thereof, (including workers in any agricultural firm or appropriate subdivision thereof) have become totally or partially separated from employment and either—

(2) that sales or production, or both, of such firm or subdivision have decreased absolutely,

(3) that imports from Mexico or Canada of articles like or directly competitive with articles produced by such firm or subdivision have increased, and that the increases imports contributed importantly to such workers' separations or threat of separation and to the decline in sales or production of such firm or subdivision; or

(4) that there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05035; Hassell Fabrication, Inc., Ashland, OR

NAFTA-TAA-05395; Superior Uniform Group, Inc., McGehee Industries, McGehee, AR

NAFTA-TAA-05491; Creative Leather and Vinyl, Brookfield, WI

NAFTA-TAA-05549; Western Log Homes, Chiloquin, OR

NAFTA-TAA-05616; Midland Steel Products Co., Janesville, WI

NAFTA-TAA-05023; Magnolia International, Harlingen, TX

NAFTA-TAA-05019; Rivers West Apparel, Manti, UT

NAFTA-TAA-05572; Regal Manufacturing Co., Textured Yarn Department, Hickory, NC

NAFTA-TAA-04838; Republic Paperboard Co LLC, Denver Mill, Commerce City, CO

The workers firm does not produce an article as required for certification under section 250(a), Subchapter D, Chapter 2, Title II, the Trade Act of 1974, as amended.

NAFTA-TAA-05139; Garan Manufacturing Corp., Adamsville, TN

Affirmative Determinations NAFTA-TAA

NAFTA-TAA-05160; Alltrista Zinc Products, L.P., Greeneville, TN: August 2, 2000.

NAFTA-TAA-05545; Daniel Woodhead Co., Northbrook, IL: November 16, 2000.

NAFTA-TAA-05667; Accuride International, Inc., South Bend, IN: December 17, 2000.

NAFTA-TAA-05714; Artex International, Inc., Highland, IL: Janaury 4, 2001.

NAFTA-TAA-05245; Eagle Picher Industries, Construction Equipment Div., Lubbock, TX: August 22, 2000.

NAFTA-TAA-05660 & A; Vanity Fair Intimates, LP, Monroeville Distribution, Monroeville Cutting, Monroeville Administration, Monroeville, AL and Atmore Sewing, Atmore, AL: December 10, 2000.

NAFTA-TAA-05662; Robert Mitchell Co., Inc., Douglas Brothers Div., Portland, ME: December 19, 2000.

NAFTA-TAA-05722; Siemens Energy and Automation, Inc., Osceola, IA: January 4, 2001.

NAFTA-TAA-05657; USNR, Woodland Div., Woodland, WA: December 12, 2000.

NAFTA-TAA-05632 & A; VF Jeanswear Limited Partnership, Pine Springs Facility, Rojas Facility, Plaza Facility and Riverside Facility, El Paso, TX and VF Jeanswear Limited Partnership, Fabens Facility, Fabens, TX: November 17, 2000.

NAFTA-TAA-05642; Imperial Home Décor Group, Old Stone Mill, Adams, MA: December 11, 2000.

NAFTA-TAA-05592; VF Jeanswear Limited Partnership, Jackson Facility, Jackson, TN: November 27, 2000.

NAFTA-TAA-05557; Teleflex, Inc., Waterbury, CT: November 14, 2000.

NAFTA-TAA-05343; Corning Cable Systems, Optical Assemblies Plant, Hickory, NC: September 20, 2000.

NAFTA-TAA-05195; Sweetheart Cup Co., Springfield, MO: August 13, 2000.

NAFTA-TAA-05472; Design and Cut, Inc., Cartersville, GA: October 18, 2000.

NAFTA-TAA-05411; Schmalbach-Lubeca Plastic Containers USA, Inc., Erie, PA: October 9, 2000.

NAFTA-TAA-04921; Findlay Industries, Inc., Botkins Div., Botkins, OH: May 30, 2000.

I hereby certify that the aforementioned determinations were issued during the month of January, 2002. Copies of these determinations are available for inspection in Room C-5311, U.S. Department of Labor, 200 Constitution Avenue, NW, Washington, DC 20210 during normal business hours or will be mailed to persons who write to the above address.

Dated: January 25, 2002.
Edward A. Tomchick,
Director, Division of Trade Adjustment Assistance.

[FR Doc. 02-2679 Filed 2-4-02; 8:45 am]

BILLING CODE 4510-30-M